DEPARTMENT OF JUSTICE

[OMB Number 1121-0240]

Agency Information Collection Agencies: Proposed Collection; Comments Requested Reinstatement, With Change, of a Previously Approved Collection for Which Approval Has Expired: Survey of General Purpose Law Enforcement Agencies, 2012

ACTION: 60-Day notice of information collection under review.

The Department of Justice, Office of Justice Programs, Bureau of Justice Statistics, will be submitting the following information collection request for review and approval in accordance with the Paperwork Reduction Act of 1995. The proposed information collection is published to obtain comments from the public and affected agencies. Comments are encouraged and will be accepted for “sixty days” until June 12, 2012. This process is conducted in accordance with 5 CFR 1320.10.

If you have additional comments, especially on the estimated public burden or associated response time, suggestions, or need a copy of the proposed information collection instrument with instructions or additional information, please contact: Joel Garner, Statistician, Bureau of Justice Statistics, Office of Justice Programs, U.S. Department of Justice, 810 Seventh Street NW., Washington, DC 20531 (phone: 202-307-0765).

Written comments and suggestions from the public and affected agencies concerning the proposed collection of information are encouraged. Your comments should address one or more of the following four points:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of collection of information on those who are to respond, including through the use of appropriate automated, electronic, mechanical, or other technological collection techniques or other forms of information technology, e.g., permitting electronic submission of responses.

Overview of This Information

1. Type of information collection: Re-instatement of previously approved data collection, Survey of General Purpose Law Enforcement Agencies (SGPLEA), 2012.

2. The title of the form/collection: Survey of General Purpose Law Enforcement Agencies (SGPLEA), 2012.

3. The agency form number, if any, and the applicable component of the Department sponsoring the collection: The form labels are SGPLEA, Bureau of Justice Statistics, Office of Justice Programs, U.S. Department of Justice.

4. Affected Public Who Will be Asked or Required to Respond, as well as a Brief Abstract: Respondents will be general purpose state and local law enforcement agencies, including police departments, sheriffs, and constables at the state, county and municipal level, including tribal law enforcement agencies. Abstract: The Bureau of Justice Statistics (BJS) proposes to implement a Survey of General Purpose Law Enforcement Agencies (SGPLEA). This content of the survey builds upon the previous eight waves of the BJS-sponsored surveys in the Law Enforcement Management and Administrative Statistics (LEMAS) Program. Like LEMAS, the SGPLEA will continue to generate nationally-representative estimates of the nature of law enforcement agencies and personnel by focusing on a smaller set of core issues in contemporary policing. However, beginning with SGPLEA, BJS will produce law enforcement statistics on a regular two-year cycle. SGPLEA will include a consistent set of core items and topical supplements that will vary from wave to wave. In addition to core issues concerning the number and type of agencies, the nature and diversity of law enforcement personnel, employee wages and benefits, agency budgets and organizational responses to contemporary law enforcement issues, the 2012 SGPLEA supplemental components will collect information on the following topics:

a. Recruitment and Retention of Staff;

b. Community Policing;

c. Information Systems;

d. Officer Safety;

e. Uses of Force.

5. An Estimate of the Total Number of Respondents and the Amount of Time Estimated for an Average Respondent to Respond: Based on the testing experience with the 2007 LEMAS survey, the reduction in the total number of variables included in SGPLEA form compared to the 2007 LEMAS forms, and the increased burden on smaller law enforcement agencies, BJS estimates that 3,000 respondents will complete the SGPLEA survey form with an average burden per respondent of 2.5 hours.

6. An estimate of the total public burden (in hours) associated with the collection: There are an estimated 7,500 total annual burden hours associated with this collection.

If additional information is required contact: Jerri Murray, Department Clearance Officer, United States Department of Justice, Justice Management Division, Policy and Planning Staff, Two Constitution Square, 145 N Street NE., Suite 2E-508, Washington, DC 20530.

Jerri Murray,
Department Clearance Officer, PRA, U.S. Department of Justice.

[FR Doc. 2012-8935 Filed 4-12-12; 8:45 am]

BILLING CODE 4410-18-P